DEPARTMENT OF HEALTH AND HUMAN SERVICES

Centers for Disease Control and Prevention

Advisory Council for the Elimination of Tuberculosis (ACET)

AGENCY: Centers for Disease Control and Prevention (CDC), Department of Health and Human Services (HHS).

ACTION: Notice of meeting.

SUMMARY: In accordance with the Federal Advisory Committee Act, the CDC announces the following meeting of the Advisory Council for the Elimination of Tuberculosis Meeting (ACET). This meeting is open to the public and limited to 1,000 audio and web conference lines. Time will be available for public comment.

DATES: The meeting will be held on June 15, 2021, from 10:00 a.m. to 3:45 p.m., EDT, and June 16, 2021, from 10:00 a.m. to 12:00 p.m., EDT.

The public is welcome to submit written comments in advance of the meeting. Comments should be submitted in writing by email to the contact person listed below. In the subject line, please note ATTN: Staci for ACET Public Comment. The public comment should include your name, affiliation, and email address.

Comments must be received on or before June 14, 2021.

ADDRESSES: The web conference access is: https://cdc.zoomgov.com/j/1612817912?pwd=dFRoNDJvWjh3Q0NtTDFjWnJya2xJZz09

Passcode: 8ed4G7=S

Webinar ID: 161 281 7912

The teleconference access is noted as follows:

Telephone number: 1-669-254-5252; and the passcode is 53466615.

FOR FURTHER INFORMATION CONTACT: Staci Morris, Committee Management Specialist, CDC, 1600 Clifton Road NE, Mailstop US8-6, Atlanta, Georgia 30329-4027; Telephone: (404) 718-7479; Email: nchhstppolicy@cdc.gov. (In the subject line, please note ATTN: Staci for ACET Public Comment.)

SUPPLEMENTARY INFORMATION: Purpose: This Council advises and makes recommendations to the Secretary of Health and Human Services, the Assistant Secretary for Health, and the Director, CDC, regarding the elimination of tuberculosis. Specifically, the Council makes recommendations regarding policies, strategies, objectives, and priorities; addresses the development and application of new technologies; and reviews the extent to which progress has been made toward eliminating tuberculosis.

Matters to be Considered: The agenda will include discussions on (1) 2020 TB provisional surveillance data; (2) Tuberculosis Trials Consortium Update; (3) COVID impact on TB programs; (4) Perceptions of non-U.S.-born persons on the link between country of birth and TB risk; (5) Using Big Data to Understand Latent Tuberculosis Care in the United States; and (6) Bacillus Calmette-Guerin Vaccine Guidance Development. Agenda items are subject to change as priorities dictate.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2021-09006 Filed 4-30-21; 8:45 am]

BILLING CODE 4163-18-P